DEPARTMENT OF ENERGY

Federal Energy Regulatory Commission

Combined Notice of Filings

Take notice that the Commission has received the following Natural Gas Pipeline Rate and Refund Report filings:

Filings Instituting Proceedings

Docket Numbers: RP12-36-000.

Applicants: Northwest Pipeline GP.

Description: Northwest Pipeline GP submits tariff filing per 154.204: Puget Sound Contract No. 100313—Non-Conforming to be effective 11/28/2011.

Filed Date: 10/24/2011.

Accession Number: 20111024-5057.

Comment Date: 5 p.m. Eastern Time on Monday, November 07, 2011.

Docket Numbers: RP12-37-000.

Applicants: Northern Natural Gas Company.

Description: Northern Natural Gas Company submits tariff filing per 154.204: 20111007 Essar Non-Conforming to be effective 11/24/2011.

Filed Date: 10/24/2011.

Accession Number: 20111024-5068.

Comment Date: 5 p.m. Eastern Time on Monday, November 07, 2011.

Docket Numbers: RP12-38-000.

Applicants: Texas Eastern Transmission, LP.

Description: Texas Eastern Transmission, LP submits tariff filing per 154.403: PCB TETLP DEC 2011 FILING to be effective 12/1/2011.

Filed Date: 10/24/2011.

Accession Number: 20111024-5084.

Comment Date: 5 p.m. Eastern Time on Monday, November 07, 2011.

Docket Numbers: RP12-39-000.

Applicants: Algonquin Gas Transmission, LLC.

Description: Algonquin Gas Transmission, LLC submits tariff filing per 154.403(d)(2): AGT FRQ 2011 FILING to be effective 12/1/2011.

Filed Date: 10/24/2011.

Accession Number: 20111024-5097.

Comment Date: 5 p.m. Eastern Time on Monday, November 07, 2011.

Docket Numbers: RP12-40-000.

Applicants: American Midstream (AlaTenn), LLC.

Description: American Midstream (AlaTenn), LLC submits tariff filing per 154.204: AlaTenn Negotiated Rate Filing to be effective 11/25/2011.

Filed Date: 10/25/2011.

Accession Number: 20111025-5028.

Comment Date: 5 p.m. Eastern Time on Monday, November 07, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 25, 2011.
Nathaniel J. Davis, Sr.,
Deputy Secretary.

[FR Doc. 2011-28049 Filed 10-28-11; 8:45 am]

BILLING CODE 6717-01-P